DEPARTMENT OF HOMELAND SECURITY

Coast Guard

33 CFR Part 117

[Docket No. USCG-2016-0668]

Drawbridge Operation Regulation; James River, Hopewell, VA

AGENCY: Coast Guard, DHS.

ACTION: Notice of deviation from drawbridge regulations.

SUMMARY: The Coast Guard has issued a temporary deviation from the operating schedule that governs the SR 156/Benjamin Harrison Memorial Bridge across the James River, mile 65.0, at Hopewell, VA. The deviation is necessary to facilitate bridge maintenance and repairs. This deviation allows the bridge to remain in the closed-to-navigation position.

DATES: This deviation is effective without actual notice from July 29, 2016 through 6 a.m. on Friday, September 30, 2016. For the purposes of enforcement, actual notice will be used from 8 p.m. on Monday, July 25, 2016, until July 29, 2016.

ADDRESSES: The docket for this deviation, [USCG-2016-0668] is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLEMENTARY INFORMATION: The Virginia Department of Transportation, who owns and operates the SR 156/Benjamin Harrison Memorial Bridge across the James River, mile 65.0, at Hopewell, VA, has requested a temporary deviation from the current operating regulations set out in 33 CFR 117.5, to facilitate replacement of the service elevators for both lift towers, install new electrical wiring, bird screens, and structural steel of the bridge. Under this temporary deviation, the bridge will be in the closed-to-navigation position from 8 p.m. to 6 a.m.; Monday through Thursday; July 25, 2016 to July 29, 2016; August 1, 2016 to August 5, 2016; September 5, 2016 to September 9, 2016; September 12, 2016 to September 16, 2016; and alternative dates from September 19, 2016 to September 23, 2016; and September 26, 2016 to September 30, 2016. The bridge will open for vessels on signal during scheduled closure periods, if at least 24 hours notice is given. The bridge is a vertical lift bridge has a vertical clearance of 50 feet in the closed-to-navigation position above mean water.

The James River is used by a variety of vessels including deep-draft vessels, tug and barge traffic, and recreational vessels. The Coast Guard has carefully coordinated the restrictions with waterway users in publishing this temporary deviation.

Vessels able to pass through the bridge in the closed-to-navigation position may do so at anytime. The bridge will be able to open for emergencies during scheduled closure periods, if at least 30 minutes notice is given. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: July 25, 2016.
Hal R. Pitts,
Bridge Program Manager, Fifth Coast Guard District.

[FR Doc. 2016-17976 Filed 7-28-16; 8:45 am]

BILLING CODE 9110-04-P